DEPARTMENT OF THE INTERIOR

National Park Service

[NPS-WASO-NAGPRA-16066; PPWOCRADN0-PCU00RP14.R50000]

Notice of Inventory Completion: Bureau of Land Management, Green River District, Vernal Field Office, Vernal, UT

AGENCY: National Park Service, Interior.

ACTION: Notice.

SUMMARY: The Bureau of Land Management (BLM), Green River District, Vernal Field Office, Vernal, UT, has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the BLM, Vernal Field Office. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the BLM, Vernal Field Office, at the address in this notice by August 20, 2014.

ADDRESSES: Michael Stiewig, BLM, Green River District, Vernal Field Office, 170 South 500 East, Vernal, UT 84078, telephone (435) 781-3400, email mstiewig@blm.gov.

SUPPLEMENTARY INFORMATION: Notice is here given in accordance with the Native American Graves Protection and Repatriation Act (NAGPRA), 25 U.S.C. 3003, of the completion of an inventory of human remains and associated funerary objects under the control of the BLM, Green River District, Vernal Field Office, Vernal, UT. The human remains and associated funerary objects were removed from site 42UN1225, in Uintah County, UT.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the BLM, Vernal Field Office, professional staff in consultation with representatives of the Ute Indian Tribe of the Uintah & Ouray Reservation, Utah.

History and Description of the Remains

On March 10 and 11, 1982, human remains representing, at minimum, one individual were removed from site 42UN1255, near Roosevelt, in Uintah County, UT, by Richard Fike and F.R. Hauck, of Archaeological Environmental Research Corporation (AERC), under contract with the BLM, and were assisted by Blaine Phillips and Craig Harmon, BLM archeologists. The site contained a burial, located within a fractured monolith crevice. No known individuals were identified. The majority of the human remains were reinterred on April 27, 1983, by the Ute Indian Tribe of the Uintah & Ouray Reservation, Utah, at Cactus Flat Cemetery, near Ouray, UT.

Between December 2012 and March 2013, an investigation by Vernal Field Office archeologists revealed that additional associated funerary objects and human remains from site 42UN1225 remained under the control of the BLM. A single lot of beads was discovered in a Vernal Field Office storage facility during a routine inventory. Additional associated funerary objects were located at the Utah Field House of Natural History State Park Museum in Vernal, UT, and human bones were discovered with the objects. The human remains include two phalanges, one carpal bone, and one calcified hyoid. The remains have been determined to belong to a Native American male, approximately 27-30 years of age. Based on a non-invasive analysis of the human remains and associated funerary objects, the burial from site 42UN1225 dates from 1850 to 1870.

The 271 associated funerary objects are one small piece of worked juniper wood; two clay tobacco pipe fragments; 40 various individual glass “wound” beads; seven leather cordage fragments; seven minute snail shells; one tan clay rounded ball; one zinc metal crescent; two saddle wooden element fragments; one iron axe bit; one wooden axe handle; eight leather saddle fragments with an iron buckle attached; one iron ring-spade bit; one iron “S”-hook; seven beaded leather fragments; two cloth backed leather fragments; two red stained cotton textile fragments; five leather thong fragments; 42 leather fragments; nine leather strap fragments; 10 unidentified textile fragments; 25 wool textile fragments; 10 buffalo hide fragments; three cotton print textile fragments; two cotton striped shirt fragments; 25 cotton canvas textile fragments; eight cotton textile fragments; five human hair braid fragments; two tooled leather fragments; three cotton denim textile fragments; six lots of glass seed beads; one lot of glass “wound” beads; three strands of glass seed beads; three bunches of human hair; two lots of loose human hair; 14 brass buttons; three brass tacks; two iron nails; two iron rings; and two lots of assorted faunal bone.

Determinations Made by the BLM, Green River District, Vernal Field Office, Vernal, UT

Officials of the BLM, Green River District, Vernal Field Office, Vernal, UT, have determined that:

• Pursuant to 25 U.S.C. 3001(9), the human remains described in this notice represent the physical remains of one individual of Native American ancestry.

• Pursuant to 25 U.S.C. 3001(3)(A), the 271 objects described in this notice are reasonably believed to have been placed with or near individual human remains at the time of death or later as part of the death rite or ceremony.

• Pursuant to 25 U.S.C. 3001(2), there is a relationship of shared group identity that can be reasonably traced between the Native American human remains and associated funerary objects and the Ute Indian Tribe of the Uintah & Ouray Reservation, Utah.

Additional Requestors and Disposition

Lineal descendants or representatives of any Indian tribe or Native Hawaiian organization not identified in this notice that wish to request transfer of control of these human remains and associated funerary objects should submit a written request with information in support of the request to Michael Stiewig, BLM, Green River District, Vernal Field Office, 170 South 500 East, Vernal, UT 84078, telephone (435) 781-3400, email mstiewig@blm.gov, by August 20, 2014. After that date, if no additional requestors have come forward, transfer of control of the human remains and associated funerary objects to the Ute Indian Tribe of the Uintah & Ouray Reservation, Utah, may proceed.

The BLM, Vernal Field Office, is responsible for notifying the Ute Indian Tribe of the Uintah & Ouray Reservation, Utah, that this notice has been published.

Dated: June 18, 2014.
David Tarler,
Acting Manager, National NAGPRA Program.

[FR Doc. 2014-17094 Filed 7-18-14; 8:45 am]

BILLING CODE 4312-50-P